DEPARTMENT OF COMMERCE

National Institute of Standards and Technology

[Docket No: 050621163-5163-01]

Request for Public Comments on World Trade Center Investigation Draft Final Reports

AGENCY: National Institute of Standards and Technology, United States Department of Commerce.

ACTION: World Trade Center Investigation Draft Final Reports; request for public comment.

SUMMARY: The Director of the National Institute of Standards and Technology (NIST), Technology Administration, United States Department of Commerce, announces the availability for public comment of the draft final reports of the study conducted by NIST into the technical causes of the World Trade Center (WTC) disaster on September 11, 2001, after the terrorist attacks. NIST requests comments on any or all of the 43 draft reports issued by NIST concerning various aspects of the WTC buildings, including their design, construction, maintenance and evacuation. These reports total about 10,000 pages. NIST especially encourages public comment on the approximately 200-page draft summary report, which contains the principal findings and recommendations for changes to codes, standards, and practices. NIST will consider all comments received from the public on the 43 draft reports before they are issued in final form.

DATES: The public comment period will commence with the release of the draft reports. Comments on the draft reports must be received no later than 5 p.m. EDT August 4, 2005.

ADDRESSES: A link on the WTC Investigation Web site, http://wtc.nist.gov will take users to a page where comments may be entered. The Web page is the preferred method for submittal of comments as this will allow NIST to electronically sort and group comments that address the same issue.

Comments may also be submitted by e-mail to wtc@nist.gov, by fax to (301) 975-6122, or by mail to: WTC Technical Information Repository, Attention: Mr. Stephen Cauffman, National Institute of Standards and Technology, Stop 8610, Gaithersburg, MD 20899-8610.

FOR FURTHER INFORMATION CONTACT: For further information or if you have questions, please contact Mr. Steve Cauffman by e-mail at cauffman@nist.gov or by telephone at (301) 975-6051.

SUPPLEMENTARY INFORMATION: The National Institute of Standards and Technology (NIST) released a total of 43 draft reports documenting the Federal Building and Fire Safety Investigation of the World Trade Center Disaster. These reports include the draft summary report on the Investigation of the WTC Towers, 8 project reports, and 34 supporting technical topic reports. Fifteen of these reports, including three project reports, were released on April 5, 2005.

These reports are being issued in draft form with a period for public comment. Public comments will be accepted until 5 p.m. EDT on August 4, 2005.

In response to the terrorist attacks of September 11, 2001, the National Institute of Standards and Technology (NIST) initiated a formal Federal building and fire safety investigation of the World Trade Center disaster on August 21, 2002. NIST issued two written updates on its WTC investigation activities (December 2002 and December 2003) and detailed technical progress reports in May 2003 and June 2004.

The investigation objectives are:

1. To determine (a) why and how the WTC 1 and WTC 2 collapsed following the initial impact of the aircraft, and (b) why and how the 47-story WTC 7 collapsed.

2. To determine why the loss of life and injuries were so low or so high depending on location, including technical aspects of fire protection, occupant behavior, evacuation, and emergency response.

3. To determine the procedures and practices which were used in the design, construction, operation, and maintenance of the WTC buildings.

4. To identify, as specifically as possible, areas in national building and fire codes, standards, and practices that warrant revision.

Among the specific questions that NIST is investigating within the above four objectives are the following:

How and why did WTC 1 stand nearly twice as long as WTC 2 before collapsing (103 min versus 56 min), though they were hit by virtually identical aircraft?

What factors related to normal building and fire safety considerations not unique to the terrorist attacks of September 11, 2001, if any, could have delayed or prevented the collapse of the WTC towers?

Would the undamaged WTC towers have remained standing in a normal major building fire?

What factors related to normal building and fire safety considerations, if any, could have saved additional WTC occupant lives or could have minimized the loss of life among the ranks of first responders on September 11, 2001?

How well did the procedures and practices used in the design, construction, operation, and maintenance of the WTC buildings conform to accepted national practices, standards, and codes?

The draft final report documents the investigation of the World Trade Center Towers, the findings of the investigation, and the recommendations resulting from the investigation. Additionally, NIST has released in draft form the eight project reports, and 34 technical topic reports that document all aspects of the investigation. All of the reports are being released as drafts for public comment. NIST will separately release a draft supplementary report documenting the collapse investigation of World Trade Center 7 and allow a period for public comment following its release.

Request for Public Comment: Persons interested in commenting on the draft investigation reports should submit their comments as instructed above. All comments received in response to this notice will become part of the public record and will be available for inspection and copying at the National Institute of Standards and Technology, Freedom of Information Act Reading Room, Gaithersburg, MD.

Comments submitted should be specific to the maximum extent possible: they should clearly state the issue, location (report number, page number, paragraph or sentence), provide a short reason for any suggested change, and provide suggested language for the requested revision. Due to the length of the reports, NIST cannot guarantee consideration of comments submitted without this information.

Comments may be submitted to NIST in any of four ways. A link on the WTC Investigation Web site, http://wtc.nist.gov will take users to a page where comments may be entered. The Web page is the preferred method for submittal of comments as this will allow NIST to electronically sort and group comments that address the same issue.

Comments may also be submitted by e-mail to wtc@nist.gov, by fax to (301) 975-6122, or by mail to:

WTC Technical Information Repository, Attention: Mr. Stephen Cauffman, National Institute of Standards and Technology, Stop 8610, Gaithersburg, MD 20899-8610.

All comments should contain the following information:

Name (Optional):

Affiliation (Optional):

Contact (Optional): Phone number or e-mail address where you can be contacted in case of questions.

Report Number: (e.g., NCSTAR 1-1).

Page Number:

Paragraph/Sentence: (e.g., paragraph 2/sentences 2-4).

Comment:

Reason for Comment:

Suggestion for Revision:

Dated: June 24, 2005.
Hratch Semerjian,
Acting Director.

[FR Doc. 05-13091 Filed 6-30-05; 8:45 am]

BILLING CODE 3510-13-P